DEPARTMENT OF TRANSPORTATION

Federal Aviation Administration

14 CFR Part 73

[Docket No. FAA-2013-0771; Airspace Docket No. 13-ASW-18]

RIN 2120-AA66

Change of Using Agency for Restricted Areas R-5115, NM, and R-6316, R-6317, and R-6318, TX

AGENCY: Federal Aviation Administration (FAA), DOT.

ACTION: Final rule.

SUMMARY: This action updates the name of the using agencies for Restricted Areas R-5115 in New Mexico and R-6316, R-6317, and R-6318 in Texas at the request of the Department of the Air Force. This is an administrative change only and does not affect the boundaries; designated altitudes; times of designation; or activities conducted within the affected restricted areas.

DATES: Effective date: 0901 UTC, December 12, 2013.

FOR FURTHER INFORMATION CONTACT: Colby Abbott, Airspace Policy and ATC Procedures Group, Office of Airspace Services, Federal Aviation Administration, 800 Independence Avenue SW., Washington, DC 20591; telephone: (202) 267-8783.

SUPPLEMENTARY INFORMATION:

Background

As a result of the realignment of organizational responsibilities between federal agencies, U.S. Customs and Border Protection has been assigned the function of using agency for restricted areas R-5115 in New Mexico; and R-6316, R-6317, and R-6318 in Texas. The transfer of using agency operational control occurs October 1, 2013. This action is an administrative name change only and does not affect the current dimensions or use of the restricted areas.

The Rule

This action amends Title 14 Code of Federal Regulations (14 CFR) part 73 by amending the using agency name for Restricted Areas R-5115 Deming, NM; R-6316 Eagle Pass, TX; R-6317 El Sauz, TX; and R-6318 Marfa, TX. The using agency for R-5115, R-6316, R-6317, and R-6318 is changed from “Western Air Defense Sector” to “U.S. Customs and Border Protection, Air and Marine Operations Center (AMOC), Riverside, CA.”

This is an administrative change to update the title of the using agencies. It does not affect the boundaries, designated altitudes, or activities conducted within the restricted areas; therefore, notice and public procedure under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends the descriptions of restricted areas R-5115, R-6316, R-6317, and R-6318 to reflect current organizational responsibilities.

Environmental Review

The FAA has determined that this action qualifies for categorical exclusion under the National Environmental Policy Act in accordance with FAA Order 1050.1E, Environmental Impacts: Policies and Procedures, paragraph 311d. This airspace action is an administrative change to the descriptions of the affected restricted areas to update the using agency name. It does not alter the dimensions, altitudes, or times of designation of the airspace; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.51 [Amended]

2. Section 73.51 is amended as follows:

* * * * *

R-5115 Deming, NM [Amended]

By removing the current using agency and substituting the following:

Using agency. U.S. Customs and Border Protection, Air and Marine Operations Center (AMOC), Riverside, CA.

§ 73.63 [Amended]

3. Section 73.63 is amended as follows:

* * * * *

R-6316 Eagle Pass, TX [Amended]

By removing the current using agency and substituting the following:

Using agency. U.S. Customs and Border Protection, Air and Marine Operations Center (AMOC), Riverside, CA.

R-6317 El Sauz, TX [Amended]

By removing the current using agency and substituting the following:

Using agency. U.S. Customs and Border Protection, Air and Marine Operations Center (AMOC), Riverside, CA.

R-6318 Marfa, TX [Amended]

By removing the current using agency and substituting the following:

Using agency. U.S. Customs and Border Protection, Air and Marine Operations Center (AMOC), Riverside, CA.

Issued in Washington, DC on October 21, 2013.
Gary A. Norek,
Manager, Airspace Policy and ATC Procedures Group.

[FR Doc. 2013-25205 Filed 10-24-13; 8:45 am]

BILLING CODE 4910-13-P